DEPARTMENT OF COMMERCE

International Trade Administration

[A-122-830]

Revocation of Antidumping Duty Order; Certain Stainless Steel Plate in Coils From Canada

AGENCY: Import Administration, International Trade Administration, Department of Commerce.

SUMMARY: On May 21, 1999, the Department of Commerce (“the Department”) published an antidumping duty order on certain stainless steel plate in coils from Canada. See Antidumping Duty Order, Certain Stainless Steel Plate in Coils from Belgium, Canada, Italy, Republic of Korea, South Africa, and Taiwan, 64 FR 27756 (May 21, 1999). On April 1, 2004, the Department initiated its first sunset review of the order on certain stainless steel plate in coils from Canada. See Initiation of Five-Year (“Sunset”) Reviews, 69 FR 17129 (April 1, 2004).

(“First Sunset Review”). Pursuant to section 751(c) of the Tariff Act from 1930, as amended (“the Act”), the International Trade Commission (“the ITC”) determined that revocation of the antidumping duty order on certain stainless steel plate in coils from Canada is not likely to lead to continuation or recurrence of material injury to an industry in the United States within a reasonably foreseeable time. See Certain Stainless Steel Plate from Belgium, Canada, Italy, Korea, South Africa, and Taiwan, 70 FR 38710 (July 5, 2005). Therefore, pursuant to section 751(d)(2) of the Act, and section 351.222(i)(1)(iii) of the Department's regulations, the Department is revoking the antidumping duty order on certain stainless steel plate in coils from Canada.

DATES: Effective Date: May 21, 2004.

FOR FURTHER INFORMATION CONTACT: Martha V. Douthit or Dana Mermelstein, AD/CVD Operations, Office 6, Import Administration, International Trade Administration, U.S. Department of Commerce, 14th Street and Constitution Avenue, NW., Washington, DC 20230; telephone: (202) 482-5050 or (202) 482-1391, respectively.

SUPPLEMENTARY INFORMATION:

Scope of the Order

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of the order are the following: (1) Plate not in coils, (2) plate that is not annealed or otherwise heat treated and pickled or otherwise descaled, (3) sheet and strip, and (4) flat bars. The merchandise subject to this order is currently classifiable in the Harmonized Tariff Schedule of the United States (“HTS”) at subheadings: 7219.11.00.30, 7219.11.00.60, 7219.12.00.05, 7219.12.00.20, 7219.12.00.25, 7219.12.00.50, 7219.12.00.55, 7219.12.00.65, 7219.12.00.70, 7219.12.00.80, 11521 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTS subheadings are provided for convenience and Customs purposes, the written description of the merchandise subject to this order is dispositive.

This scope language reflects the March 11, 2003, amendment of the antidumping and countervailing duty orders and suspension of liquidation which the Department implemented in accordance with the Court of International Trade, decision in Allegheny Ludlum v. United States, 2002 Ct. Int. Trade LEXIS 147 (December 12, 2002). See also Notice of Amended Antidumping Duty Orders; Certain Stainless Steel Plate in Coils from Belgium, Canada, Italy, the Republic of Korea, South Africa, and Taiwan, 68 FR 11520 (March 11, 2003) and Notice of Amended Countervailing Duty Orders; Certain Stainless Steel Plate in Coils from Belgium, Italy, and South Africa, 68 FR 11524 (March 11, 2003).

Background

On April 1, 2004, the Department initiated, and the ITC instituted, a sunset review of the antidumping duty order on certain stainless steel plate in coils from Canada. See Initiation of Five-Year (“Sunset”) Reviews, 69 FR 17129 (April 1, 2004), and Certain Stainless Steel Plate from Belgium, Canada, Italy, Korea, South Africa, and Taiwan; Initiation of Five-Year Review, 69 FR 17235 (April 1, 2004). As a result of the review, the Department found that revocation of the antidumping duty order would likely lead to continuation or recurrence of dumping, and notified the ITC of the magnitude of the margin likely to prevail were the order to be revoked. See Stainless Steel Plate in Coils from Canada, South Africa, and Taiwan; Notice of Expedited Sunset Review: Final Results, 69 FR 47416 (August 5, 2004).

On July 5, 2005, the ITC determined, pursuant to section 751(c) of the Act, that revocation of the antidumping duty order on certain stainless steel plate in coils from Canada would not be likely to lead to continuation or recurrence of material injury to an industry in the United States within a reasonably foreseeable time. See USITC Publication 3784, Investigation Nos. 701-TA-376, 377, & 379 and 731-TA 788-793 (Review) (June 2005), and Certain Stainless Steel Plate from Belgium, Canada, Italy, Korea, South Africa, and Taiwan; 70 FR 38710 (July 5, 2005).

Determination

As a result of the determination by the ITC that revocation of this antidumping duty order is not likely to lead to continuation or recurrence of material injury to an industry in the United States, the Department pursuant to section 751(d) of the Act, is revoking the antidumping duty order on certain stainless steel plate in coils from Canada. Pursuant to section 751(d)(2) and 19 CFR 351.222(i)(2)(i), the effective date of revocation is May 21, 2004 (i.e., the fifth anniversary of the date of publication in the Federal Register of the order).

The Department will notify the U.S. Customs and Border Protection (“CBP”) to discontinue suspension of liquidation and collection of cash deposits on entries of the subject merchandise entered or withdrawn from warehouse on or after May 21, 2004, the effective date of revocation of this order. The Department will complete any pending administrative reviews of this order and will conduct administrative reviews of subject merchandise entered prior to the effective date of revocation in response to appropriately filed requests for review.

This five-year sunset review and notice are in accordance with sections 751(d)(2) and 777(i)(1) of the Act.

Dated: July 12, 2005.
Susan H. Kuhbach,
Acting Assistant Secretary for Import Administration.

[FR Doc. E5-3806 Filed 7-15-05; 8:45 am]

BILLING CODE 3510-DS-P